DEPARTMENT OF TRANSPORTATION

National Highway Traffic Safety Administration

[Docket No. NHTSA 2001-10288; Notice 1]

Cooper Tire & Rubber Company; Receipt of Application for Decision of Inconsequential Noncompliance

Cooper Tire & Rubber Company (Cooper) has determined that certain Mastercraft, Roadmaster, Starfire and Futura brand tires in the P225/60R15 size do not meet the labeling requirements mandated by Federal Motor Vehicle Safety Standard (FMVSS) No. 109, “New Pneumatic Tires.” Pursuant to 49 U.S.C. 30118(d) and 30120(h), Cooper and Pep Boys, the brand name owner for the Futura tires produced by Cooper, have petitioned for a determination that this noncompliance is inconsequential to motor vehicle safety and have filed an appropriate report pursuant to 49 CFR Part 573, “Defect and Noncompliance Reports.”

This notice of receipt of an application is published under 49 U.S.C. 30118 and 30120 and does not represent any agency decision or other exercise of judgment concerning the merits of the application.

FMVSS No. 109 requires that each tire shall have permanently molded into or onto both sidewalls the actual number of plies in the sidewall, and the actual number of plies in the tread area if different (S4.3 (e)). The Tupelo, Mississippi, tire manufacturing facility had nine (9) molds involved in producing tires during the thirteenth through sixteenth production weeks of 2001, in which the number of polyester tread plies was incorrectly stated. According to Cooper, the subject tires were molded “TREAD 2 PLY STEEL + 1 PLY POLYESTER, SIDEWALL 2 PLY POLYESTER.” The correct molding to match the actual tire construction should have been “TREAD 2 PLY STEEL + 2 PLY POLYESTER, SIDEWALL 2 PLY POLYESTER.”

The incorrect number of polyester tread plies was removed from the molds by buffing and the correct number of polyester tread plies inserted; however, prior to the molds being correctly stamped, 503 tires, of which 40 were Futura tires owned by Pep Boys, were inadvertently shipped marked as having only one polyester tread ply. Cooper states that the incorrect number of polyester tread plies on each tire does not present a safety-related defect. The involved tires, in fact, have two polyester tread plies instead of one. The involved tires produced from these molds during the aforementioned production periods comply with all other requirements of 49 CFR 571.109.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: (30 days after Publication Date).

(49 U.S.C. 301118, 301120; delegations of authority at 49 CFR 1.50 and 501.8)
Issued on: August 8, 2001.
Stephen R. Kratzke,
Associate Administrator for Safety Performance Standards.

[FR Doc. 01-20308 Filed 8-13-01; 8:45 am]

BILLING CODE 4910-59-P